DEPARTMENT OF THE INTERIOR

National Park Service

Notice of Inventory Completion: Central Washington University, Department of Anthropology, Ellensburg, WA, and Thomas Burke Memorial Washington State Museum, University of Washington, Seattle, WA

AGENCY: National Park Service, Interior.

ACTION: Notice.

Notice is here given in accordance with the Native American Graves Protection and Repatriation Act (NAGPRA), 25 U.S.C. 3003, of the completion of an inventory of human remains and associated funerary objects in the control of the Central Washington University, Department of Anthropology, Ellensburg, WA, and Thomas Burke Memorial Washington State Museum (Burke Museum), University of Washington, Seattle, WA. The human remains and associated funerary objects were removed from Grant and Kittitas Counties, WA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the Burke Museum and Central Washington University professional staff in consultation with representatives of the Confederated Tribes and Bands of the Yakama Nation, Washington; Confederated Tribes of the Colville Reservation, Washington; Confederated Tribes of the Umatilla Reservation, Oregon; Confederated Tribes of the Warm Springs Reservation of Oregon; Nez Perce Tribe of Idaho; and Wanapum Band, a non-federally recognized Indian group.

In 1920, human remains representing a minimum of 35 individuals were removed from the Pot Holes site or Hall Site #7 (later assigned 45-GR-131) located on the east bank of the Columbia River, south of Trinidad, Grant County, WA, by Dr. F.S. Hall of the Washington State Museum. The human remains were accessioned by the museum in later that same year. In 1974, the Burke Museum legally transferred portions of the human remains to Central Washington University. No known individuals were identified. The 685 funerary objects include 3 stone abraders; 2 adze blades; 5 unmodified antler fragments; 9 antler tools and modified fragments; 7 awls (bone and antler); 3 basketry fragments; 6 lots of beads (seed, shell, copper); 3 stone blades; 11 lots of bone (bird, fish, and mammal); 2 lots of sand, wood, and dentalium shells; 10 bone points; 17 bone tools; 2 lots of charcoal; 36 chipped stone tools; 1 clay fragment; 2 silver coins; 4 bone combs; 9 composite toggling harpoon point fragments; 1 copper pendant; 5 lots of copper ore fragments; 6 lots of fiber cordage; 15 lots of dentalium shell (modified and unmodified); 1 stone discoid; 1 petrified wood drill; 2 copper earrings; 27 stone flakes; 7 bone gaming pieces; 1 ground stone tool; 13 fragments of copper headdress; 1 lot of dentalium shell headdress attached to twine; 7 fragments of copper ornaments; 1 iron tool; 5 stone knives; 9 fragments of leather (2 that have copper attached); 1 lot of fiber mat fragments; 1 lot of soil matrix; 4 mauls; 5 mica flakes; 35 modified bone fragments; 1 modified shell; 1 bone needle; 9 stone netweights; 12 lots of red ochre; 2 lots of organic materials; 5 abalone shell ornament fragments; 57 shell pendants and fragments; 1 bone pendant; 25 copper pendants and fragments; 11 stone pipes; 71 stone points; 58 stone scrapers; 11 lots of shell; 14 lots of shell beads; 1 fragment of slag; 2 steatite fragments; 2 unmodified stones; 4 string fragments; 1 bone toggle; 8 teeth (non-1human); 84 utilized flakes; 2 antler wedges; 1 bone whistle; 9 lots of wood fragments (some burned); 1 wood fragment; 1 seed; 2 wire fragments; 3 glass fragments; 1 lot of copper, wood, and organic material; 1 lot of copper and cordage; 1 lot of cordage; 1 lot of organic material and seeds; and 2 bone fragments (modified).

“Hall Site #7” appears to have been a large and important site largely destroyed by local collectors before any systematic recovery was attempted. Dr. F.S. Hall with Earl O. Roberts and M. Mohr of the University of Washington conducted partially controlled excavations in 1920 and 1921 at Pot Holes and a number of other nearby sites.

In 1920-1921, human remains representing a minimum of three individuals were removed from an area near Vantage Ferry in Kittitas County, WA, by F.S. Hall of the Washington State Museum. The human remains were accessioned in 1920 (Burke Accn. #1860). No known individuals were identified. No associated funerary objects are present.

In 1953-1954, human remains representing a minimum of four individuals were removed from site 45-KT-20, Kittitas County, WA, as part of a University of Washington Field Expedition led by Dr. Earl Swanson, Jr. The human remains were transferred from the University of Washington Department of Anthropology and accessioned by the Burke Museum in 1966 (Burke Accn. #1966-95). No known individuals were identified. The 42 funerary objects are 1 lot of plant fiber; 7 lots of beads (shell and bone, 4 lots include cordage fragments); 9 lots of bone (mammal, rodent, fish); 1 chipped stone tool; 5 lots of cordage; 9 flakes; 1 shell pendant; 2 lots of fiber mat fragments; 1 scatological specimen; 1 shell fragment; 2 points; 1 wood fragment; and 2 unmodified stones.

Early and late published ethnographic documentation indicates that the sites described above are the aboriginal territory of the Moses-Columbia or Sinkiuse, and Yakima (Daugherty 1973, Miller 1998, Mooney 1896, Ray 1936, Spier 1936). Descendents of the Moses-Columbia, Sinkiuse, and Yakima are members of the Confederated Tribes of the Colville Reservation, Washington and Confederated Tribes and Bands of the Yakama Nation, Washington. Furthermore, information provided by the two tribes during consultation indicates that the aboriginal ancestors occupying this area were highly mobile and traveled the landscape for gathering resources as well as trade, and are part of the more broadly defined Plateau communities. Descendents of these Plateau communities are now widely dispersed and enrolled in the Confederated Tribes and Bands of the Yakama Nation, Washington; Confederated Tribes of the Colville Reservation, Washington; Confederated Tribes of the Umatilla Reservation, Oregon; Confederated Tribes of the Warm Springs Reservation of Oregon; Nez Perce Tribe of Idaho; and Wanapum Band, a non-federally recognized Indian group.

Officials of the Burke Museum and Central Washington University have determined that, pursuant to 25 U.S.C. 3001 (9-10), the human remains described above represent the physical remains of 42 individuals of Native American ancestry. Officials of the Burke Museum and Central Washington University also have determined that, pursuant to 25 U.S.C. 3001 (3)(A), the 727 objects described above are reasonably believed to have been placed with or near individual human remains at the time of death or later as part of the death rite or ceremony. Lastly, officials of the Burke Museum and Central Washington University have determined that, pursuant to 25 U.S.C. 3001 (2), there is a relationship of shared group identity that can be reasonably traced between the Native American human remains and associated funerary objects and the Confederated Tribes and Bands of the Yakama Nation, Washington; Confederated Tribes of the Colville Reservation, Washington; Confederated Tribes of the Umatilla Reservation, Oregon; Confederated Tribes of the Warm Springs Reservation of Oregon; and Nez Perce Tribe of Idaho. Furthermore, officials of the Burke Museum and Central Washington University have determined that there is a cultural relationship between the human remains and associated funerary objects and the Wanapum Band, a non-federally recognized Indian group.

Representatives of any other Indian tribe that believes itself to be culturally affiliated with the human remains and associated funerary objects should contact Dr. Peter Lape, Burke Museum, University of Washington, Box 353010, Seattle, WA 98195-3010, telephone (206) 685-2282 or Lourdes Henebry-DeLeon, NAGPRA Program Director, Department of Anthropology, Central Washington University, Ellensburg, WA 98926-7544, telephone (509) 963-2671, before October 15, 2007. Repatriation of the human remains and associated funerary objects to the Confederated Tribes and Bands of the Yakama Nation, Washington; Confederated Tribes of the Colville Reservation, Washington; Confederated Tribes of the Umatilla Reservation, Oregon; Confederated Tribes of the Warm Springs Reservation of Oregon; and Nez Perce Tribe of Idaho for themselves and on behalf of the Wanapum Band, a non-federally recognized Indian group, may proceed after that date if no additional claimants come forward.

Central Washington University is responsible for notifying the Confederated Tribes and Bands of the Yakama Nation, Washington; Confederated Tribes of the Colville Reservation, Washington; Confederated Tribes of the Umatilla Reservation, Oregon; Confederated Tribes of the Warm Springs Reservation of Oregon; Nez Perce Tribe of Idaho; and Wanapum Band, a non-federally recognized Indian group that this notice has been published.

Dated: August 28, 2007
Sherry Hutt,
Manager, National NAGPRA Program.

[FR Doc. E7-18091 Filed 9-12-07; 8:45 am]

BILLING CODE 4312-50-S